SECURITIES AND EXCHANGE COMMISSION

[Release No. 34-70617; File No. SR-MSRB-2013-06]

Self-Regulatory Organizations; Municipal Securities Rulemaking Board; Notice of Withdrawal of Proposed Rule Change to Amend MSRB Rule A-3, on Membership on the Board, To Modify the Standard of Independence for Public Board Members

October 7, 2013.

On July 3, 2013, the Municipal Securities Rulemaking Board (“MSRB”) filed with the Securities and Exchange Commission (“Commission”), pursuant to Section 19(b)(1) of the Securities Exchange Act of 1934 (the “Act”) ¹ and Rule 19b-4 thereunder,² a proposed rule change consisting of amendments to MSRB Rule A-3 to modify the standard of independence for public Board members. The proposed rule change was published for comment in the Federal Register on July 24, 2013.³ The Commission received nine comment letters on the proposal.⁴ On September 6, 2013, pursuant to Section 19(b)(2) of the Act,⁵ the MSRB granted an extension of time for the Commission to act on the filing until October 22, 2013. The MSRB submitted a response to comments on September 6, 2013.⁶ On October 4, 2013, the Exchange withdrew the proposed rule change (SR-MSRB-2013-06).

¹ 15 U.S.C. 78s(b)(1).

² 17 CFR 240.19b-4.

³ Securities Exchange Act Release No. 70004 (July 18, 2013), 78 FR 44607.

⁴ See letters to Elizabeth M. Murphy, Secretary, Commission, from Jeanine Rodgers Caruso, CIPFA, President, National Association of Independent Public Finance Advisors, dated August 14, 2013; Barbara Roper, Director of Investor Protection, Consumer Federation of America, dated August 14, 2013; Kerry Korpi, Director of Research and Collective Bargaining, American Federation of State, County and Municipal Employees, dated August 14, 2013; Dustin T. McDonald, Director, Federal Liaison Center, Government Finance Officers Association, dated August 14, 2013; Americans for Financial Reform, dated August 14, 2013; Lisa S. Good, Executive Director, National Federation of Municipal Analysts, dated August 26, 2013; Gerald Gold, dated September 4, 2013; Jeanine Rodgers Caruso, CIPFA, President, National Association of Independent Public Finance Advisors, dated September 12, 2013; and Dorothy Donohue, Deputy General Counsel—Securities Regulation, Investment Company Institute, dated September 18, 2013.

⁵ 15 U.S.C. 78s(b)(2).

⁶ See letter to Elizabeth M. Murphy, Secretary, Commission, from Gary L. Goldsholle, General Counsel, MSRB, dated September 6, 2013.

For the Commission, by the Division of Trading and Markets, pursuant to delegated authority.⁷
⁷ 17 CFR 200.30-3(a)(12).
Kevin M. O'Neill,
Deputy Secretary.

[FR Doc. 2013-24629 Filed 10-21-13; 8:45 am]

BILLING CODE 8011-01-P